DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 17, 2009. Address written comments to Statutory Import Programs Staff, Room 3720, U.S. Department of Commerce, Washington, D.C. 20230. Applications may be examined between 8:30 a.m. and 5 p.m. at the U.S. Department of Commerce in Room 3720.

Docket Number: 09-045. Applicant: Air Force Research Laboratory, Wright-Patterson AFB, 2230 10th St., Area “B”, Building 655, Room 76, Wright-Patterson AFB, OH 45433. Instrument: Tilting Goniometer Stages, with Resistive Encoders. Manufacturer: Attocube Systems AG, Germany. Intended Use: This instrument will be used to study structural aerospace materials. Specifically, it will be used to characterize and measure the micromechanical properties of structural aerospace metals. The instrument must be able to move linear position less than 5 nm wide and to move objects to distances over 5 nm. It must also have millidegree resolution and a range of tilt of at least 5 degrees. Justification for Duty-Free Entry: There are no instruments of the same general category being manufactured within the United States. Application accepted by Commissioner of Customs: July 27, 2009.

Docket Number: 09-046. Applicant: National Renewable Energy Laboratory, 1617 Cole Blvd., Golden, Colorado 80401. Instrument: Sidewinder Upgrade (ion column) Accessory for Electron Microscope. Manufacturer: FEI Company, the Netherlands. Intended Use: This instrument will be used to study the chemistry, crystallography and structural morphology of a variety of materials used in the development of photovoltaic devices. Justification for Duty-Free Entry: There are no instruments of the same general category being manufactured within the United States. Application accepted by Commissioner of Customs: August 3, 2009.

Dated: August 24, 2009.
Christopher Cassel,
Acting Director, IA Subsidies Enforcement Office.

[FR Doc. E9-20823 Filed 8-27-04; 8:45 am]

BILLING CODE 3510-DS-S